DEPARTMENT OF TRANSPORTATION

National Highway Traffic Safety Administration

[Docket No. NHTSA-2024-2020; Notice 1]

Goodyear Tire & Rubber Company, Receipt of Petition for Decision of Inconsequential Noncompliance

AGENCY: National Highway Traffic Safety Administration (NHTSA), Department of Transportation (DOT).

ACTION: Receipt of petition.

SUMMARY: Goodyear Tire & Rubber Company (Goodyear) has determined that certain Goodyear 265/70R17 116T XL Wrangler Duratrac RT passenger tires do not fully comply with Federal Motor Vehicle Safety Standard (FMVSS) No. 139, New Pneumatic Radial Tires for Light Vehicles. Goodyear filed a noncompliance report dated April 2, 2024, and subsequently petitioned NHTSA (the “Agency”) on April 2, 2024, for a decision that the subject noncompliance is inconsequential as it relates to motor vehicle safety. This document announces receipt of Goodyear's petition.

DATES: Send comments on or before September 25, 2024.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Jayton Lindley, General Engineer, NHTSA, Office of Vehicle Safety Compliance, (325) 655-0547.

SUPPLEMENTARY INFORMATION:

I. Overview: Goodyear determined that certain Goodyear Wrangler Duratrac RT tires do not fully comply with paragraph S5.5 of FMVSS No. 139, New Pneumatic Radial Tires for Light Vehicles (49 CFR 571.139).

Goodyear filed a noncompliance report dated April 2, 2024, pursuant to 49 CFR part 573, Defect and Noncompliance Responsibility and Reports. Goodyear petitioned NHTSA on April 2, 2024, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Goodyear's petition is published under 49 U.S.C. 30118 and 30120 and does not represent any agency decision or another exercise of judgment concerning the merits of the petition.

II. Tires Involved: Approximately 3,758 Goodyear Wrangler Duratrac RT passenger tires, manufactured between July 16, 2023, and September 23, 2023, were reported by the manufacturer.

III. Rule Requirements: Paragraph S5.5(f) of FMVSS No. 139 includes the requirements relevant to this petition. Each tire must have one sidewall marked with the generic name of each cord material used in the plies (both sidewall and tread area) and indicate the actual number of plies in the sidewall, as well as the actual number of plies in the tread area.

IV. Noncompliance: Goodyear explains that the noncompliance is due to a mold error and that as a result, the number of tread plies indicated on the sidewall of the subject tires does not match the actual number of plies in the tire construction as required by paragraph S5.5(f) of FMVSS No. 139. Specifically, the subject tires were manufactured with 2-plies polyamide cords in the tread area but were incorrectly marked to indicate a 1-ply polyamide cord in the tread area.

V. Summary of Goodyear's Petition: The following views and arguments presented in this section, “V. Summary of Goodyear's Petition,” are the views and arguments provided by Goodyear; they have not been evaluated by the Agency and do not reflect the views of the Agency. Goodyear describes the subject noncompliance and contends that the noncompliance is inconsequential as it relates to motor vehicle safety.

Goodyear contends that the subject noncompliance is inconsequential to motor vehicle safety because the tires were manufactured according to design and meet or exceed all applicable FMVSS performance standards. The sidewall markings for tire service, including load capacity and inflation pressure are accurate. Goodyear maintains that the labeling error does not impact safety, tire usage, or the repair and recycling industries. Further, Goodyear states that the affected tire mold has been corrected in production and future tires will correctly indicate the number of plies shown on the sidewalls.

Goodyear argues that NHTSA has previously granted petitions for similar noncompliances concerning tire construction information, based on surveys indicating that most consumers do not use tire construction information from the sidewall when making purchasing tires.

Goodyear concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that Goodyear no longer controlled at the time it determined that the noncompliance existed. However, any decision on this petition does not relieve tire distributors and dealers of the prohibitions on the sale, offer for sale, or introduction or delivery for introduction into interstate commerce of the noncompliant tires under their control after Goodyear notified them that the subject noncompliance existed.

(Authority: 49 U.S.C. 30118, 30120: delegations of authority at 49 CFR 1.95 and 501.8)

Otto G. Matheke III,
Director, Office of Vehicle Safety Compliance.

[FR Doc. 2024-19019 Filed 8-23-24; 8:45 am]

BILLING CODE 4910-59-P